INTERNATIONAL BOUNDARY AND WATER COMMISSION UNITED STATES AND MEXICO

Notice of Availability of a Draft Environmental Impact Statement and Draft Finding of No Significant Impact for Sediment Removal Downstream of Retamal Diversion Dam, in the Lower Rio Grande Flood Control Project, located in Hidalgo County, TX

AGENCY: United States Section, International Boundary and Water Commission, United States and Mexico.

ACTION: Notice of Availability of Draft Environmental Assessment (EA) and Draft Finding of No Significant Impact (FONSI).

SUMMARY: Pursuant to Section 102(2)(c) of the National Environmental Policy Act of 1969; the Council on Environmental Quality Final Regulations (40 CFR parts 1500 through 1508); and the U.S. Section's Operational Procedures for Implementing Section 102 of NEPA, published in the Federal Register September 2, 1981, (46 FR 44083); the U.S. Section hereby gives notice that the Draft Environmental Assessment and Draft Finding of No Significant Impact for Sediment Removal Downstream of Retamal Diversion Dam, in the Lower Rio Grande Flood Control Project, located in Hidalgo County, Texas are available.

The project includes dredging the sediment and beneficially use or dispose of all the material on vacant Mexican Federal Government land adjacent to the river at the dredging location. The size of the project area is approximately 4.94 acres, which includes 2.1 acres of wetland. The EA analyzes potential impacts from dredging approximately 54,000 cubic yards of sediment material, either hydraulically or mechanically, during the non-irrigation season between September and February when water levels in the Rio Grande are maintained at lower levels. Construction activities include transporting dredged materials to dewatering cells on the Mexican riverbank. A hydraulic piping system may be set up to transport the slurry mix directly to the final disposal area or the materials may be transported by trucks provided by Mexico, depending on the disposal method. A coffer dam may also be constructed to de-water alternate sides of the river during dredging activities. The EA provides details of the action, explains the purpose and need for the action, and assesses the potential impacts of the Proposed Action. The EA also analyzes the No Action Alternative. On the basis of the Draft EA, the United States Section has determined that an environmental impact statement is not required to implement the proposed action and hereby provides notice of a finding of no significant impact. An environmental impact statement will not be prepared unless additional information which may affect this decision is brought to our attention within thirty (30) days of the date of this Notice.

The Draft EA and Draft Finding of No Significant Impact have been sent to the Environmental Protection Agency and various federal, state, and local agencies and interested parties. The Draft EA and Draft FONSI are available under “What's New?” on the USIBWC Home Page at www.ibwc.state.gov; the reference desk at the public libraries in Weslaco or Harlingen, TX; or at the USIBWC Mercedes Field Office at 325 Golf Course Road, Mercedes, TX 78570.

DATES: Written comments on the Draft EA and Draft FONSI will be accepted through November 17, 2003.

ADDRESSES: Written comments and inquiries on the Draft FONSI and Draft EA should be directed to Mr. Daniel Borunda, 4171 N. Mesa, Suite C-100, El Paso, Texas 79902. Phone: (915) 832-4701, Fax: (915) 832-4167, e-mail: danielborunda@ibwc.state.gov.

Dated: October 7, 2003.
Mario Lewis,
General Counsel.

[FR Doc. 03-25980 Filed 10-16-03; 8:45 am]

BILLING CODE 4710-03-P